DEPARTMENT OF HEALTH AND HUMAN SERVICES

Administration for Children and Families

Administration for Native Americans

AGENCY: Administration for Native Americans, Administration for Children and Families, HHS.

ACTION: Award announcement.

SUMMARY: The Administration for Native Americans (ANA) herein announces a Program Expansion Supplement to the Red Lake Band of Chippewa Indians, Red Lake, Minnesota. This supplement for $136,400 will extend funding for 11 youth volunteers through the second year of the project. In FY 2005, ANA provided an urgent grant award to the Tribe to assist in mitigating the effects of the tragic events of the school shooting in March 2005 that resulted in the death of students, faculty and staff. The shooting marked the highest death toll in U.S. school shootings since the Columbine High School massacre in April 1999.

Due to the devastation created by the high school shooting, ANA is providing urgent financial assistance for minor renovations to the local community centers to support positive community development; funding to hire 11 volunteers to assist youth and members of the community in coping with this event; and building support systems, which will aid in preventing future tragedies.

FOR FURTHER INFORMATION CONTACT: Sheila Cooper, Director of Program Operations, toll-free at 877-922-9262.

SUPPLEMENTARY INFORMATION: This award will be made pursuant to Section 803 of the Native American Programs Act of 1974.

Dated: June 7, 2006.
Kimberly Romine,
Deputy Commissioner, Administration for Native Americans.

[FR Doc. E6-9209 Filed 6-12-06; 8:45 am]

BILLING CODE 4184-01-P